DEPARTMENT OF JUSTICE

Notice of Lodging Proposed Consent Decrees

In accordance with Departmental Policy, 28 CFR 50.7, notice is hereby given that three (3) proposed Consent Decrees in United States v. Sea Bay Development Corp., et al., No. 2:06-cv-624 (E.D. Va.), were lodged with the United States District Court for the Eastern District of Virginia, Norfolk Division, on October 26, 2007.

The proposed Consent Decrees concern a complaint filed by the United States against Sea Bay Development Corp., Beechtree Park, Inc., Green Sea Farms, LLC, Elwood H. Perry, Frank T. Williams' Farms, Inc., and Ferrell's Backhoe Service, Inc., to obtain injunctive relief from and to impose civil penalties against the Defendants for allegedly violating Section 301(a) of the Clean Water Act (CWA), 33 U.S.C. 1311(a), by discharging dredged or fill material and/or controlling and directing the discharge of dredged or fill material into waters of the United States without a permit at an approximately 1,560-acre property located in Chesapeake, Virginia.

The proposed Consent Decrees resolve all allegations against the Defendants. The proposed Consent Decree for Elwood H. Perry and Ferrell's Backhoe Service, Inc., requires payment to the United States of a civil penalty in the amount of $65,000.00. The proposed Consent Decree for Frank T. Williams' Farms, Inc., requires payment to the United States of a civil penalty in the amount of $35,000.00. The proposed Consent Decree for Sea Bay Development Corp., Beechtree Park, Inc., and Green Sea Farms, LLC, requires restoration and mitigation on a portion of the property consisting of approximately 873 acres of wetlands, and the preservation in perpetuity of that portion under a conservation easement or deed restriction. In addition, that Consent Decree allows the discharge of dredged or fill material in the remainder of the property, subject to certain limitations.

The Department of Justice will accept written comments relating to these proposed Consent Decrees for thirty (30) days from the date of publication of this Notice. Please address comments to Kenneth C. Amaditz, Trial Attorney, Environmental Defense Section, P.O. Box 23986, Washington, DC 20026, and refer to United States v. Sea Bay Development Corp, et al., DJ # 90-5-1-1-05061.

The proposed consent Decrees may be examined at the Clerk's Office, United States District Court for the Eastern District of Virginia, Norfolk Division. In addition, the proposed Consent Decrees may be viewed at http://www.usdoj.gov/enrd/Consent_Decrees.html.

Russell M. Young,
Assistant Chief, Environmental Defense Section, Environmental & Natural Resources Division, U.S. Department of Justice.

[FR Doc. 07-5579 Filed 11-07-07; 8:45 am]

BILLING CODE 4410-15-M